DEPARTMENT OF ENERGY

Federal Energy Regulatory Commission

[Project No. 14241-000]

Alaska Energy Authority; Notice of Dispute Resolution Panel Meeting and Technical Conference

On March 8, 2013, Commission staff, in response to the filing of a notice of study dispute by the U.S. National Marine Fisheries Service (NMFS) on February 21, 2013, convened a single three-person Dispute Resolution Panel (Panel) pursuant to 18 CFR 5.14(d).

The Panel will hold a technical conference at the time and place identified below. The technical conference will address study disputes regarding three separate studies as approved in the Director's Study Plan Determination, issued February 1, 2013. The studies in dispute are: (1) Glacier and Runoff Changes Study (Study 7.7); (2) Salmon Escapement Study (Study 9.7); and (3) Fish Passage Study (Study 9.11).

The purpose of the technical session is for the disputing agency, applicant, and Commission to provide the Panel with additional information necessary to evaluate the disputed studies. All local, state, and federal agencies, Indian tribes, and other interested parties are invited to attend the meeting as observers. The Panel may also request information or clarification on written submissions as necessary to understand the matters in dispute. The Panel will limit all input that it receives to the specific studies or information in dispute and will focus on the applicability of such studies or information to the study criteria stipulated in 18 CFR 5.9(b).

If the number of participants wishing to speak creates time constraints, the Panel may, at its discretion, limit the speaking time for each participant.

Technical Conference

Date: Wednesday, April 3, 2013.

Time: 10:00 a.m.-4:00 p.m. (AKDT; UTC—8:00).

Place: Public Conference Room, Z. J. Loussac Public Library, 3600 Denali Street, Anchorage, Alaska 99503.

Dated: March 12, 2013.
Kimberly D. Bose,
Secretary.

[FR Doc. 2013-06200 Filed 3-18-13; 8:45 am]

BILLING CODE 6717-01-P